ENVIRONMENTAL PROTECTION AGENCY

40 CFR PART 52

[EPA-R05-OAR-2020-0055; FRL-11687-03-R5]

Air Plan Approval; Ohio; Withdrawal of Technical Amendment

AGENCY: Environmental Protection Agency (EPA).

ACTION: Proposed rule; extension of public comment period.

SUMMARY: The Environmental Protection Agency (EPA) is extending the comment period for a proposed rule published February 22, 2024.

DATES: The comment period is extended to April 24, 2024.

ADDRESSES: Submit your comments, identified by Docket ID No. EPA-R05-OAR-2020-0055 at https://www.regulations.gov, or via email to arra.sarah@epa.gov. Additional instructions to comment can be found in the notice of proposed rulemaking published February 22, 2024 (89 FR 13304).

FOR FURTHER INFORMATION CONTACT: Christos Panos, Attainment Planning and Maintenance Section, Air Programs Branch (AR18J), Environmental Protection Agency, Region 5, 77 West Jackson Boulevard, Chicago, Illinois 60604, (312) 353-8328, panos.christos@epa.gov.

SUPPLEMENTARY INFORMATION: On February 22, 2024, EPA proposed to determine that its November 19, 2020, final action to remove the Air Nuisance Rule (ANR) from the Ohio State Implementation Plan using the Clean Air Act error correction provision was in error, and to correct that action by reinstating the ANR as part of the Ohio SIP. In response to a request in a public comment, EPA is extending the comment period for 30 days.

Dated: March 8, 2024.
Debra Shore,
Regional Administrator, Region 5.

[FR Doc. 2024-05448 Filed 3-14-24; 8:45 am]

BILLING CODE 6560-50-P